DEPARTMENT OF VETERANS AFFAIRS

Privacy Act of 1974; System of Records

AGENCY: Department of Veterans Affairs (VA), Veterans Health Administration (VHA).

ACTION: Notice of a modified system of records.

SUMMARY: Pursuant to the Privacy Act of 1974, notice is hereby given that the VA is modifying the system of records entitled “Health Professional Scholarship Program, and Visual Impairment and Orientation and Mobility Professional Scholarship Program-VA” (73VA10A2A) as set forth in the Federal Register. This system is used to determine and document individual applicant eligibility for scholarship awards, selecting applicants to receive awards, calculating service commitments for program participants, ensuring program financial accountability, monitoring educational progress of participants, monitoring the employment status of scholarship participants during periods of obligated service, terminating employees from the program (upon completion or breach), and evaluating and reporting program results and effectiveness.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Health Professional Scholarship Program, and Visual Impairment and Orientation and Mobility Professional Scholarship Program-VA” (73VA10A2A). Comments received will be available at regulations.gov for public viewing, inspection or copies.

FOR FURTHER INFORMATION CONTACT: Stephania Griffin, VHA Chief Privacy Officer, Department of Veterans Affairs, 810 Vermont Avenue NW, Washington, DC 20420; Stephania.griffin@va.gov, telephone number 704-245-2492 (Note: this is not a toll-free number).

SUPPLEMENTARY INFORMATION: VA is modifying the system by revising the System Number; System Location; System Manager; Routine Uses of Records Maintained in the System; Policies and Practices for Storage of Records; Policies and Practices for Retention and Disposal of Records; Administrative, Technical and Physical Safeguards; Notification Procedure; and Record Access Procedure. VA is republishing the system notice in its entirety.

The System Number will be changed from 73VA10A2A to 73VA10 to reflect the current VHA organizational routing symbol.

The System Location is being updated to remove, “Active records will be maintained at Healthcare Talent Management (HTM), Scholarships and Nursing Education Office, Veterans Health Administration, Department of Veterans Affairs, 1250 Poydras Street, Suite #1000, New Orleans, LA 70113. Complete records will be maintained only at this address.” This section will include, “Active records are located in a Federal Risk and Authorization Management Program (FEDRAMP) approved Amazon Web Server (AWS) Cloud based system. There are no paper records for Health Professional Scholarship Program (HPSP) being maintained. The Uniform Resource Locator where records are maintained is https://va-ams.intelliworxit.com/ (A login is required to retrieve any information.)”

The System Manager is being updated to remove “Director, Healthcare Talent Management (10A2A8), 1250 Poydras Street, Suite #1000, New Orleans, Louisiana 70113”. This section will include, “Executive Director, Workforce Solutions, Veterans Health Administration, Department of Veterans Affairs, 55 North Robinson Ave., Suite 110, Oklahoma City, OK 73102. Telephone number is 405-921-4226 (this is not a toll-free number).”

The following routine use is added and will be routine use #18, “Data Breach Response and Remediation, For Another Agency: To another Federal agency or Federal entity, when VA determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.”

Policies and Practices for Storage of Records is being updated to remove “secure local area network (LAN) located within HTM office spaces and safeguarded.” This section will change to “secure AWS cloud-based network.”

Policies and Practices for Retention and Disposal of Records is being updated to remove the following: “Records will be maintained and disposed of in accordance with records disposition authority approved by the Archivist of the United States.” This section is updated to state, “Records in this system are retained and disposed of in accordance with the schedule approved by the Archivist of the United States, VHA Records Control Schedule 10-1, 3200.1.”

Administrative, Technical and Physical Safeguards are being updated to include, “HPSP is hosted in AWS Government Cloud (GovCloud) infrastructure as a service cloud computing environment that has been authorized at the high-impact level under the FedRAMP. The secure site-to-site encrypted network connection is limited to access via the VA trusted internet connection.”

Notification Procedure and Record Access Procedure are being updated to remove the following: “Talent Management (10A2A8), 1250 Poydras Street, Suite #1000, New Orleans, Louisiana 70113.” In the new System of Reports Notice, no address will be included in these sections. Rather, the reader will be referred to the system manager.

The Report of Intent to Modify a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on May 1, 2023 for publication.

Dated: June 6, 2023.
Amy L. Rose,
Program Analyst, VA Privacy Service, Office of Information Security, Office of Information and Technology, Department of Veterans Affairs.

SYSTEM NAME AND NUMBER:

“Health Professional Scholarship Program, and Visual Impairment and Orientation and Mobility Professional Scholarship Program-VA” (73VA10)

SECURITY CLASSIFICATION:

Unclassified.

SYSTEM LOCATION:

Active records are located in a Federal Risk and Authorization Management Program (FEDRAMP) approved Amazon Web Server (AWS) Cloud based system. There are no paper records for Health Professional Scholarship Program (HPSP) being maintained. The Uniform Resource Locator where records are maintained is https://va-ams.intelliworxit.com/. (A login is required to retrieve any information.)

SYSTEM MANAGER(S):

Official responsible for policies and procedures: Executive Director, Workforce Solutions, Veterans Health Administration, Department of Veterans Affairs, 55 North Robinson Ave., Suite 110, Oklahoma City, OK 73102. Telephone number is 405-921-4226 (this is not a toll-free number).

AUTHORITY FOR MAINTENANCE OF THE SYSTEM:

38 U.S.C. 7611-7619, 7635-7636

PURPOSE(S) OF THE SYSTEM:

The purpose of these records is to support HPSP and Visual Impairment and Orientation and Mobility Professional Scholarship Program (VIOMPSP). The HPSP was established by Public Law 96-330 and awarded scholarships to 3,330 students between 1982 through 1995 earning baccalaureate and master's degrees in nursing and other health care professions. Public Law 111-163, signed on May 5, 2010, reauthorized the HPSP through December 31, 2014, and established the VIOMPSP. The records and information may be used for determining and documenting individual applicant eligibility for scholarship awards, selecting applicants to receive awards, calculating the service commitments for program participants, ensuring program financial accountability, monitoring educational progress of participants, monitoring the employment status of scholarship participants during their periods of obligated service, terminating the employee from the program (upon completion or breach) and evaluating and reporting program results and effectiveness. The information would also be used to determine the financial liability of participants who breach their HPSP or VIOMPSP agreement.

CATEGORIES OF INDIVIDUALS COVERED BY THE SYSTEM:

The records include information regarding individuals who apply for, and are awarded, scholarships under the provisions of the VHA HPSP in a field leading to an appointment under paragraph (1) or (3) 38 U.S.C. 7401, and individuals who apply for, and are awarded, scholarships under the provisions of the VHA VIOMPSP in a program of study leading to an appointment as a qualified blind rehabilitation specialist.

CATEGORIES OF RECORDS IN THE SYSTEM:

The records (or information contained in records) may include personal identification information related to the application material, to award processes, to employment, to obligated service, and to requests for waivers or suspensions of obligated service or financial indebtedness to the VA. The application for an HPSP or VIOMPSP award includes the applicant's full name, mailing and email addresses, employing facility number (if applicable), home and work telephone numbers, Social Security number, an alternative person of contact, job title, current education level, degree sought, description of the academic program covered by the scholarship, name and address of the academic institution, the starting and completion dates of the employee's academic program, awards and activities. Records may include memoranda submitted by the employees, calculations for the service obligations, copies of letters and memoranda from employees making the requests and also correspondence to employees and appropriate local program officials delineating the decisions on such requests. Records for applicants selected will also include the award amount, the name of the participant's financial institution, account number and routing number, the obligated service incurred, and the location, start, and end dates of the service obligation period.

RECORD SOURCE CATEGORIES:

Record sources, include information contained in the records, is obtained from the individual, references given in application material, educational institutions, VA medical facilities, other Federal agencies, state agencies, and consumer reporting agencies.

ROUTINE USES OF RECORDS MAINTAINED IN THE SYSTEM, INCLUDING CATEGORIES OF USERS AND THE PURPOSES OF SUCH USES:

1. Congress: To a Member of Congress or staff acting upon the Member's behalf when the Member or staff requests the information on behalf of, and at the request of, the individual who is the subject of the record.

2. Governmental Agencies, for VA Hiring, Security Clearance, Contract, License, Grant: To a Federal, state, local, or other governmental agency maintaining civil or criminal violation records, or other pertinent information such as employment history, background investigations, or personal or educational background, to obtain information relevant to VA's hiring, transfer, or retention of an employee, issuance of a security clearance, letting of a contract, or issuance of a license, grant, or other benefit. The disclosure of the names and addresses of veterans and their dependents from VA records under this routine use must also comply with the provisions of 38 U.S.C. 5701.

3. State or Local Agencies, for Employment: To a state, local, or other governmental agency, upon its official request, as relevant and necessary to that agency's decision on the hiring, transfer, or retention of an employee, the issuance of a security clearance, the letting of a contract, or the issuance of a license, grant, or other benefit by that agency. The disclosure of the names and addresses of veterans and their dependents from VA records under this routine use must also comply with the provisions of 38 U.S.C. 5701.

4. Federal Agencies, Verifying Obligations of Service: To Federal agencies in order to determine if an applicant has an obligation for service under another Federal program, thus rendering the applicant ineligible for a VA scholarship.

5. Educational Institutions, Scholarship Program Administration: To educational institutions in order to assist in the administration of this program, provided that information disclosed is about individuals eligible for scholarships.

6. Department of Treasury, for Award Payment Information: To the Department of Treasury to permit delivery of scholarship-related checks to students and to educational institutions.

7. Consumer Reporting Agencies: To a consumer reporting agency for the purpose of locating the individual, obtaining a consumer report to determine the ability of the individual to repay an indebtedness to the United States, or assisting in the collection of such indebtedness, provided that the provisions of 38 U.S.C. 5701(g)(2) and (4) have been met, provided that the disclosure is limited to information that is reasonably necessary to identify such individual or concerning that individual's indebtedness to the United States by virtue of the person's participation in a benefits program administered by the Department.

8. Department of Justice (DOJ), Litigation, Administrative Proceeding: To DoJ, or in a proceeding before a court, adjudicative body, or other administrative body before which VA is authorized to appear, when:

(a) VA or any component thereof;

(b) Any VA employee in their official capacity;

(c) Any VA employee in their individual capacity where DoJ has agreed to represent the employee; or

(d) The United States, where VA determines that litigation is likely to affect the agency or any of its components, is a party to such proceedings or has an interest in such proceedings, and VA determines that use of such records is relevant and necessary to the proceedings.

9. Application Authenticity, References: To educational institutions, previous employers or individuals providing references to verify the authenticity of the application.

10. State Licensing Boards (SLB), for Licensing: To a Federal agency, a state or local government licensing board, the Federation of State Medical Boards, or a similar non-governmental entity that maintains records concerning individuals' employment histories or concerning the issuance, retention, or revocation of licenses, certifications, or registration necessary to practice an occupation, profession, or specialty, to inform such non-governmental entities about the health care practices of a terminated, resigned, or retired health care employee whose professional health care activity so significantly failed to conform to generally accepted standards of professional medical practice as to raise reasonable concern for the health and safety of patients in the private sector or from another Federal agency. These records may also be disclosed as part of an ongoing computer matching program to accomplish these purposes.

11. National Practitioner Data Bank (NPDB), for Hiring, Privileging: To the NPDB at the time of hiring or clinical privileging/re-privileging of healthcare practitioners, and other times as deemed necessary by VA, in order for VA to obtain information relevant to a Department decision concerning the hiring, privileging/re-privileging, retention or termination of the applicant or employee.

12. NPDB, SLB, for Medical Malpractice: To the NPDB or a state licensing board in the state in which a practitioner is licensed, in which the VA facility is located, or in which an act or omission occurred upon which a medical malpractice claim was based when VA reports information concerning: (1) any payment for the benefit of a physician, dentist, or other licensed health care practitioner that was made as the result of a settlement or judgment of a claim of medical malpractice, if an appropriate determination is made in accordance with Department policy that payment was related to substandard care, professional incompetence, or professional misconduct on the part of the individual; (2) a final decision that relates to possible incompetence or improper professional conduct that adversely affects the clinical privileges of a physician or dentist for a period longer than 30 days, or; (3) the acceptance of the surrender of clinical privileges or any restriction of such privileges by a physician or dentist, either while under investigation by the health care entity relating to possible incompetence or improper professional conduct, or in return for not conducting such an investigation or proceeding. These records may also be disclosed as part of a computer matching program to accomplish these purposes.

13. National Archives and Records Administration (NARA): To NARA in records management inspections conducted under 44 U.S.C. 2904 and 2906, or other functions authorized by laws and policies governing NARA operations and VA records management responsibilities.

14. Contractors: To contractors, grantees, experts, consultants, students, and others performing or working on a contract, service, grant, cooperative agreement, or other assignment for VA, when reasonably necessary to accomplish an agency function related to the records.

15. Law Enforcement: To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of Veterans and their dependents from VA records under this routine use must also comply with the provisions of 38 U.S.C. 5701.

16. Federal Agencies, Fraud and Abuse: To other Federal agencies to assist such agencies in preventing and detecting possible fraud or abuse by individuals in their operations and programs.

17. Data Breach Response and Remediation, for VA: To appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons reasonably necessary to assist in connection with VA efforts to respond to the suspected or confirmed breach or to prevent, minimize, or remedy such harm.

18. Data Breach Response and Remediation, for Another Federal Agency: To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records are maintained on paper, electronic media, and computer printouts by HPSP. Records stored on electronic media are maintained on a VA-approved and managed, password protected secure AWS cloud-based network.

POLICIES AND PRACTICES FOR RETRIEVABILITY OF RECORDS:

Records in this system are retrieved using the award number, or an equivalent participant account number assigned by HSPS, Social Security number, and the name of the individual.

POLICIES AND PRACTICES FOR RETENTION AND DISPOSAL OF RECORDS:

Records in this system are retained and disposed of in accordance with the schedule approved by the Archivist of the United States and VHA Records Control Schedule 10-1, 3200.1.

ADMINISTRATIVE, TECHNICAL, AND PHYSICAL SAFEGUARDS:

Access to the basic file in HPSP is restricted to authorized VA employees and vendors. Access to the office spaces where electronic media is maintained within HPSP is further restricted to specifically authorized employees and is protected by contracted building security services. Records (typically computer printouts) at HPSP will be kept in locked files and made available only to authorized personnel on a need-to-know basis. During non-working hours the file is locked and the building is protected by contracted building security services. Records stored on electronic media are maintained on a VA-approved and managed, password protected, secure LAN located within HPSP office spaces and safeguarded as described above.

HPSP is hosted in AWS Government Cloud (GovCloud) infrastructure as a service cloud computing environment that has been authorized at the high-impact level under the FedRAMP. The secure site-to-site encrypted network connection is limited to access via the VA trusted internet connection.

RECORD ACCESS PROCEDURE:

Individuals seeking information on the existence and content of records in this system pertaining to them should contact the system manager in writing as indicated above. A request for access to records must contain the requesters' full name, address, telephone number, be signed by the requester and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it and the proposed amendment to the record.

NOTIFICATION PROCEDURE:

Generalized notice is provided by the publication of this notice. For specific notice, see Record Access Procedure, above.

EXEMPTIONS PROMULGATED FOR THE SYSTEM:

None.

HISTORY:

74 FR 62390 (November 27, 2009); 78 FR 27481 (May 10, 2013).

[FR Doc. 2023-12402 Filed 6-9-23; 8:45 am]

BILLING CODE 8320-01-P